INTERNATIONAL TRADE COMMISSION

[Investigations Nos. 731-TA-929-931 (Final)]

Silicomanganese From India, Kazakhstan, and Venezuela

Determinations

On the basis of the record¹ developed in the subject investigations, the United States International Trade Commission determines, pursuant to section 735(b) of the Tariff Act of 1930 (19 U.S.C. 1673d(b)) (the Act), that an industry in the United States is materially injured by reason of imports from India, Kazakhstan, and Venezuela of silicomanganese, provided for in subheading 7202.30.00 or statistical reporting number 7202.99.5040 of the Harmonized Tariff Schedule of the United States, that have been found by the Department of Commerce to be sold in the United States at less than fair value (LTFV).

¹ The record is defined in sec. 207.2(f) of the Commission's Rules of Practice and Procedure (19 CFR 207.2(f)).

Background

The Commission instituted these investigations effective April 6, 2001, following receipt of a petition filed with the Commission and Commerce by Eramet Marietta Inc. (Marietta, OH) and the Paper, Allied-Industrial, Chemical and Energy Workers International Union, Local 5-0639. The final phase of the investigations was scheduled by the Commission following notification of preliminary determinations by Commerce that imports of silicomanganese from India, Kazakhstan, and Venezuela were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 29, 2001 (66 FR 59596).² The hearing was held in Washington, DC, on April 2, 2002, and all persons who requested the opportunity were permitted to appear in person or by counsel.

² On January 14, 2002, the Commission published in the Federal Register a notice of revised schedule (67 FR 1783).

The Commission transmitted its determinations in these investigations to the Secretary of Commerce on May 16, 2002. The views of the Commission are contained in USITC Publication 3505 (May 2002), entitled Silicomanganese from India, Kazakahstan, and Venezuela: Investigations Nos. 731-TA-929-931 (Final).

Issued: May 16, 2002.
By order of the Commission.
Marilyn R. Abbott,
Secretary.

[FR Doc. 02-12703 Filed 5-20-02; 8:45 am]

BILLING CODE 7020-20-P